DEPARTMENT OF LABOR

Office of the Secretary

Submission for OMB Review: Comment Request

August 25, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Bureau of Labor Statistics (BLS), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a currently approved collection.

Title of Collection: International Price Program (IPP) U.S. Export and Import Price Indexes.

OMB Control Number: 1220-0025.

Affected Public: Private Sector.

Total Estimated Number of Respondents: 9,300.

Total Estimated Annual Burden Hours: 30,646.

Total Estimated Annual Costs Burden (does not include per hour costs:) $0.

Description: The price data collected by the IPP is used to produce indexes which measure, on a monthly basis, changes in transaction prices of goods and services exported from or imported into the U.S. This published data is in turn used to deflate import and export trade statistics, deflate the foreign trade component of the GDP, determine monetary and fiscal policy, negotiate trade agreements, and determine trade and commercial policy. The respondents are establishments conducting import/export trade and receive no compensation for their participation. For additional information, see related notice published at Vol. 74 FR 27824 on June 11, 2009.

Agency: Bureau of Labor Statistics.

Type of Review: New collection (Request for a new OMB Control Number).

Title of Collection: Data Sharing Agreement Program.

OMB Control Number: 1220-XXXX.

Affected Public: Individuals.

Total Estimated Number of Respondents: 137.

Total Estimated Annual Burden Hours: 557.

Total Estimated Annual Costs Burden (does not include per hour costs): $0.

Description: An important aspect of the mission of the BLS is to disseminate to the public the maximum amount of information possible. Not all data are publicly available because of the importance of maintaining the confidentiality of BLS data. However, the BLS has opportunities available on a limited basis for eligible researchers to access confidential data for purposes of conducting valid statistical analyses that further the mission of the BLS as permitted by the Confidential Information Protection and Statistical Efficiency Act of 2002 (CIPSEA). In order to provide access to confidential data, the BLS must determine that the researcher's project will be exclusively statistical in nature and that the researcher is eligible based on guidelines set out in CIPSEA, the Office of Management and Budget implementation guidance on CIPSEA, and BLS policy. This information collection provides the vehicle through which the BLS will obtain the necessary details to ensure all researchers and projects comply with appropriate laws and policies. For additional information, see related notice published at Vol. 74 FR 28552 on June 16, 2009.

Darrin A. King,
Departmental Clearance Officer.

[FR Doc. E9-20909 Filed 8-28-09; 8:45 am]

BILLING CODE 4510-24-P